DEPARTMENT OF JUSTICE

Drug Enforcement Administration

[Docket No. DEA-392]

Bulk Manufacturer of Controlled Substances Applications: Bulk Manufacturers of Marihuana; Correction

ACTION: Notice of applications; correction.

SUMMARY: The Drug Enforcement Administration (DEA) published a document in the Federal Register on August 27, 2019, concerning a notice of applications. As that document correctly indicated, each of the applicants noticed applied to be registered with DEA to grow marihuana as a bulk manufacturer. However, certain drug codes for some of the applicants were inadvertently omitted by DEA or not listed because applicants had inadvertently omitted them from their applications.

SUPPLEMENTARY INFORMATION:

Correction

In the Federal Register of August 27, 2019, in FR Doc. 2019-18456 (84 FR 44920), on pages 44922 and 44923, correct the table to add the following basic classes of controlled substance for the following applicants:

Applicant | Controlled substance | Drug code | Sch.
Abatin Cultivation Center | Marihuana extract | 7350 | I
Biopharmaceutical Research Company, LLC | Marihuana, Tetrahydrocannabinols | 7360, 7370 | I
Columbia Care NY, LLC | Marihuana, Tetrahydrocannabinols | 7360, 7370 | I
Fraunhofer USA | Marihuana, Tetrahydrocannabinols | 7360, 7370 | I
Gary Gray DBA Complex Pharmacist Owner | Marihuana extract | 7350 | I
Hawaii Agriculture Research Center | Marihuana, Tetrahydrocannabinols | 7360, 7370 | I
MMJ Biopharma Cultivation | Marihuana extract | 7350 | I
Scottsdale Research Institute | Marihuana, Tetrahydrocannabinols | 7360, 7370 | I
Ultra Rich CBD | Marihuana | 7360 | I
University of Massachusetts | Marihuana, Tetrahydrocannabinols | 7360, 7370 | I

Dated: October 7, 2019.
William T. McDermott,
Acting Assistant Administrator.

[FR Doc. 2019-22312 Filed 10-8-19; 4:15 pm]

BILLING CODE 4410-09-P